DEPARTMENT OF LABOR

Occupational Safety and Health Review Commission

Sunshine Act Meeting

TIME AND DATE: 10 a.m. on September 15, 2000.

PLACE: The Commission's National Office at One Lafayette Centre, 1120 20th St., NW., 9th Floor, Washington, DC 20036-3419.

STATUS: Pursuant to 29 CFR § 2203.3(a) the first part of this meeting will be open to the public.

MATTERS TO BE CONSIDERED: This meeting will be opened to allow the Commission to evaluate the Commission's pilot program for the Settlement Part (29 CFR § 2200.120) and to decide whether to make it permanent. After that matter is disposed of the meeting will be closed for the Commission to consider cases pending for adjudication.

CONTACT PERSON FOR MORE INFORMATION: Earl R. Ohman, Jr., General Counsel, (202) 606-5410.

Earl R. Ohman, Jr.,
General Counsel.

[FR Doc. 00-23192 Filed 9-5-00; 5:11 pm]

BILLING CODE 7600-01-M